DEPARTMENT OF HOMELAND SECURITY

Coast Guard

33 CFR Part 117

[Docket No. USCG-2018-0628]

Drawbridge Operation Regulation; Rancocas Creek, Burlington, NJ

AGENCY: Coast Guard, DHS.

ACTION: Notice of deviation from drawbridge regulation.

SUMMARY: The Coast Guard has issued a temporary deviation from the operating schedule that governs the S.R. 543 (Riverside-Delanco) Bridge across the Rancocas Creek, mile 1.3, at Burlington, NJ. The deviation is necessary to facilitate routine maintenance. This deviation allows the bridge to remain in the closed-to-navigation position.

DATES: This deviation is effective without actual notice from July 3, 2018 until 3:30 p.m. on August 2, 2018. For enforcement purposes actual notice will be used from 7 a.m. on June 28, 2018 until July 3, 2018.

ADDRESSES: The docket for this deviation, [USCG-2018-0628] is available at http://www.regulations.gov. Type the docket number in the “SEARCH” box and click “SEARCH”. Click on Open Docket Folder on the line associated with this deviation.

FOR FURTHER INFORMATION CONTACT: If you have questions on this temporary deviation, call or email Mr. Mickey Sanders, Bridge Administration Branch, Fifth District, Coast Guard; telephone (757) 398-6587, email Mickey.D.Sanders2@uscg.mil.

SUPPLEMENTARY INFORMATION: The Burlington County Bridge Commission, owner and operator of the S.R. 543 (Riverside-Delanco) Bridge across the Rancocas Creek, mile 1.3, at Burlington, NJ, has requested a temporary deviation from the current operating schedule to accommodate routine maintenance.

Under this temporary deviation, the bridge will require a 30 minutes advanced notice to open Monday through Friday, from 7 a.m. to 3:30 p.m., on June 28, 2018, to August 2, 2018. The current operating schedule is set out in 33 CFR 117.745.

The Rancocas Creek is mostly used by recreational vessels. The Coast Guard has carefully considered the restrictions with waterway users in publishing this temporary deviation.

Vessels able to pass through the bridge in the closed position may do so at any time. The bridge will be able to open for emergencies and there is no immediate alternate route for vessels unable to pass through the bridge in the closed position. The Coast Guard will also inform the users of the waterways through our Local and Broadcast Notice to Mariners of the change in operating schedule for the bridge so that vessel operators can arrange their transits to minimize any impact caused by this temporary deviation.

In accordance with 33 CFR 117.35(e), the drawbridge must return to its regular operating schedule immediately at the end of this effective period of this temporary deviation. This deviation from the operating regulations is authorized under 33 CFR 117.35.

Dated: June 26, 2018.
Hal R. Pitts,
Bridge Program Manager, Fifth Coast Guard District.

[FR Doc. 2018-14238 Filed 7-2-18; 8:45 am]

BILLING CODE 9110-04-P